FEDERAL RETIREMENT THRIFT INVESTMENT BOARD

Sunshine Act; Notice of Meeting

TIME AND DATE: 9:00 a.m. (Eastern Time) October 28, 2013.

PLACE: 10th Floor Board Meeting Room, 77 K Street NE., Washington, DC 20002.

STATUS: Parts will be open to the public and parts closed to the public.

MATTERS TO BE CONSIDERED:

Parts Open to the Public

1. Approval of the Minutes of the September 23, 2013 Board Member Meeting

2. Thrift Savings Plan Activity Reports by the Executive Director

a. Monthly Participant Activity Report

b. Quarterly Investment Policy Report

c. Legislative Report

3. Mid-Year Financial Audit

4. Audit Status

5. Capital Markets and L Fund

6. Human Capital Review/ORM Report

7. Quarterly Vendor Financials

Parts Closed to the Public

1. Personnel

2. Security

CONTACT PERSON FOR MORE INFORMATION: Kimberly Weaver, Director, Office of External Affairs, (202) 942-1640.

Dated: October 17, 2013.
Megan Grumbine,
Acting Secretary, Federal Retirement Thrift Investment Board.

[FR Doc. 2013-24717 Filed 10-17-13; 4:15 pm]

BILLING CODE 6760-01-P